INTERNATIONAL TRADE COMMISSION

[Inv. No. 337-TA-785]

In the Matter of Certain Light-Emitting Diodes and Products Containing Same; Notice of Institution of Investigation

Institution of investigation pursuant to 19 U.S.C. 1337.

AGENCY: U.S. International Trade Commission.

ACTION: Notice.

SUMMARY: Notice is hereby given that two complaints were filed with the U.S. International Trade Commission on June 3, 2011, under section 337 of the Tariff Act of 1930, as amended, 19 U.S.C. 1337, on behalf of OSRAM GmbH of Germany. Both complaints allege violations of section 337 based upon the importation into the United States, the sale for importation, and the sale within the United States after importation of certain light-emitting diodes and products containing same by reason of infringement of certain claims of U.S. Patents. The first complaint asserts U.S. Patent No. 6,812,500 (“the `500 patent”); U.S. Patent No. 7,078,732 (“the ‘732 patent”); U.S. Patent No. 7,126,162 (“the ‘162 patent”); U.S. Patent No. 7,345,317 (“the ‘317 patent”); U.S. Patent No. 7,629,621 (“the ‘621 patent”); U.S. Patent No. 6,459,130 (“the ‘130 patent”); U.S. Patent No. 6,927,469 (“the ‘469 patent”); U.S. Patent No. 7,199,454 (“the ‘454 patent”); and U.S. Patent No. 7,427,806 (“the ‘806 patent”). The second complaint asserts U.S. Patent No. 6,849,881 (“the ‘881 patent”); U.S. Patent No. 6,975,011 (“the ‘011 patent”); U.S. Patent No. 7,106,090 (“the ‘090 patent”); U.S. Patent No. 7,151,283 (“the ‘283 patent”); and U.S. Patent No. 7,271,425 (“the ‘425 patent”) as well as the ‘500 patent, ‘732 patent, ‘162 patent, ‘621 patent, ‘130 patent, ‘469 patent, and ‘454 patent. Each complaint further alleges that an industry in the United States exists as required by subsection (a)(2) of section 337.

The complainant requests that the Commission institute the two investigations and, after the investigation, issue an exclusion order and cease and desist orders.

Letters regarding the possible consolidation of investigations stemming from these complaints were received on June 21, June 22, and June 29, 2011.

ADDRESSES: The complaints, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Dockets Services, U.S. International Trade Commission, telephone (202) 205-1802.

Authority: The authority for institution of this investigation is contained in section 337 of the Tariff Act of 1930, as amended, and in section 210.10 of the Commission's Rules of Practice and Procedure, 19 CFR 210.10 (2011).

Scope of Investigation: Having considered the complaints and letters received, the U.S. International Trade Commission has decided to institute two investigations on a partially consolidated basis, and on July 5, 2011, Ordered that—

(1) Pursuant to subsection (b) of section 337 of the Tariff Act of 1930, as amended, an investigation be instituted to determine whether there is a violation of subsection (a)(1)(B) of section 337 in the importation into the United States, the sale for importation, or the sale within the United States after importation of certain light-emitting diodes and products containing same that infringe one or more of claims 1, 3-5, 7, 11, 13-17, 21, 27, 32, 34, 35-38, 40-44, 48, 54, 59, 61-63, 66, 67, and 69 of the ‘500 patent; 1-3, 7, 13, 18, 30, and 32 of the ‘732 patent; claims 1-9, 11, 12, and 15-38 of the ‘162 patent; claims 1, 3, 5-10, 13-20, 25-28, and 31-35 of the ‘317 patent; claims 1-7, 9-37, 40-47, and 50-54 of the ‘621 patent; claims 1, 3, 5, 6, 8, 9, 11, 13, 14, 16-19, 21, and 22 of the ‘130 patent; claims 1-6 and 9 of the ‘469 patent; claims 1-16, 19, and 20 of the ‘454 patent; and claims 1, 5, 6, 8-10, 15-17, and 20 of the ‘806 patent, and whether an industry in the United States exists as required by subsection (a)(2) of section 337;

(2) For the purpose of the investigation so instituted, the following are hereby named as parties upon which this notice of investigation shall be served:

(a) The complainant is: OSRAM GmbH, Hellabrunner Strasse 1, 81543 Munich, Germany.

(b) The respondents are the following entities alleged to be in violation of section 337, and are the parties upon which the complaint is to be served:

Samsung Electronics Co., Ltd., 416 Maetan-dong, Yeongtong-gu, Suwon-si, Gyeonggi-do 443-742, Korea.

Samsung Electronics America, Inc., 85 Challenger Road, Ridgefield Park, NJ 07660.

Samsung LED Co., Ltd., 206, Cheomdansaneop Road, Yeongtong-gu, Suwon City, Gyeonggi Province 443-743, Korea.

Samsung LED America, Inc., 6 Concourse Parkway NE., Atlanta, GA 30328.

LG Electronics, Inc., LG Twin Towers, 20, Yeouido-dong, Yeongdungpo-gu Seoul, 150-721, South Korea.

LG Innotek Co., Ltd., Seoul Square 20F, Namdaemunno 5-ga, Jung-gu, Seoul, 100-714, South Korea.

LG Electronics U.S.A., Inc., 1000 Sylvan Avenue, Englewood Cliffs, NJ 07632.

LG Innotek U.S.A., Inc., 10225 Willow Creek Road, San Diego, CA 92131.

(3) For the investigation so instituted, the Honorable Paul J. Luckern, Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: July 6, 2011.
By order of the Commission.
James R. Holbein,
Secretary to the Commission.

[FR Doc. 2011-17304 Filed 7-8-11; 8:45 am]

BILLING CODE 7020-02-P